DEPARTMENT OF COMMERCE

National Oceanic and Atmospheric Administration

[I.D. 081106A ]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for an EFP; request for comments.

SUMMARY: The Administrator, Northeast Region, NMFS (Regional Administrator) has made a preliminary determination that the subject Exempted Fishing Permit (EFP) proposal contains all the required information and warrants further consideration. The Regional Administrator has also made a preliminary determination that the activities authorized under the EFP would be consistent with the goals and objectives of the Atlantic Sea Scallop Fishery Management Plan (FMP). However, further review and consultation may be necessary before a final determination is made to issue the EFP. Therefore, NMFS announces that the Regional Administrator proposes to issue an EFP that would allow vessels to conduct fishing operations that are otherwise restricted by the regulations governing the fisheries of the Northeastern United States. The EFP would allow for exemptions from Atlantic sea scallop open area days-at-sea (DAS), in the event that there is an insufficient number of trips in the scallop access area made available to compensate research authorized under the Sea Scallop Research Set-aside Program (RSA Program).

DATES: Comments on this document must be received on or before September 1, 2006.

ADDRESSES: Written comments should be submitted by any of the following methods:

• Mail: Patricia A. Kurkul, Regional Administrator, NMFS, Northeast Regional Office, One Blackburn Drive, Gloucester, MA 01930. Mark the outside of the envelope, “Comments on sea scallop RSA EFP proposal;”

• E-mail: SC-RSA-006@noaa.gov, include “Comments on sea scallop RSA EFP proposal” in the subject line of the e-mail;

• Fax: (978) 281-9135.

FOR FURTHER INFORMATION CONTACT: Ryan Silva, Fishery Management Specialist, phone: 978-281-9326, fax: 978-281-9135.

SUPPLEMENTARY INFORMATION: Regulations currently allocate 0.2 percent of the Southern New England and Georges Bank YT TACs to the Nantucket Lightship Scallop Access Area (NLCA) and Closed Area II Scallop Access Area (CAII), respectively, for research and/or compensation trips conducted under the RSA program. RSA YT bycatch TACs are 644 lb (292 kg) for the NLCA, and 9,127 lb (4,140 kg) for CAII. Seven RSA projects have been recommended by the Regional Administrator for funding through the 2006 RSA Program. Six of these projects will be allocated scallops set-aside from the NLCA and/or CAII, pending approval of the projects through the NOAA Grants Review Process. If one or both of the Access Areas were closed as a result of the attainment of the RSA YT bycatch TAC, a project may become substantially under-funded, and be unable to accomplish the objectives it was intended to achieve.

For the commercial scallop fishery, the YT bycatch TACs are monitored using scallop data provided by vessel operators, and scallop and YT bycatch data provided by at-sea observers. NMFS determines a YT bycatch rate from these data in order to determine the status of the bycatch TAC. The NLCA was closed on July 20, 2006, for the remainder of the 2006 scallop fishing year (FY) to commercial scallop vessels due to the attainment of the YT bycatch TAC. Since there will be no additional observer bycatch data for the NLCA due to this closure, the final bycatch rate will be applied to NLCA RSA Program compensation trips. For example, with a YT bycatch rate of 0.65 percent (i.e., for every 100 lb (45.4 kg) of scallops caught, 0.65 lb (0.29 kg) of yellowtail are caught), approximately 43 percent, or 100,000 lb (45,359 kg), of the NLCA set-aside scallops can be harvested before the 644 lb (292 kg) YT bycatch TAC is caught. About 57 percent, or 130,000 lb (58,967 kg), of the scallops that have been preliminarily allocated to RSA projects to fund research will not be available.

As of August 8, 2006, the CAII commercial YT bycatch TAC had not been caught. Although the current CAII YT bycatch rate does not indicate the 9,127-lb (4,140 kg) CAII RSA YT bycatch TAC will be caught, the bycatch rate could increase, and CAII could close to RSA compensation trips before all of the set-aside scallops are harvested. There is an additional 130,201 lb (59,058 kg) of scallops available from CAII that were not allocated to any RSA project.

If a project is unable to harvest its allocated scallop compensation due to a YT bycatch TAC closure, project coordinators would have the option to take unused compensation from either CAII, if available, or open scallop areas. Since scallop catch rates are greater in CAII (approximately 2,600 lb (1,179 kg) per day fished) than open areas (approximately 1,880 lb (853 kg) per day fished), it is likely project coordinators will request scallops from CAII before open areas. However, if the CAII YT bycatch rate increases enough to trigger a closure before sufficient scallop compensation can be harvested, researchers would need to harvest scallops from open areas to offset the costs of research. If scallops need to be harvested from open areas, vessels will need an EFP to exempt them from scallop open area DAS as specified at § 648.53(b)(2). Vessels authorized to take an open area trip will have a scallop possession limit consistent with the amount of compensation authorized in the access area(s).

Regulations under the Magnuson-Stevens Fishery Conservation and Management Act require publication of this notification to provide interested parties the opportunity to comment on proposed EFPs. EFP modifications and extensions may be granted without further notice if they are deemed essential to facilitate completion of the proposed research and minimal so as not to change the scope or impact of the initially approved EFP request.

Authority: 16 U.S.C. 1801 et seq.

Dated: August 11, 2006.
James P. Burgess,
Acting Director, Office of Sustainable Fisheries, National Marine Fisheries Service.

[FR Doc. E6-13550 Filed 8-16-06; 8:45 am]

BILLING CODE 3510-22-S